DEPARTMENT OF THE INTERIOR

Bureau of Land Management

[WO-200-01-1020-00]

Science Advisory Board

AGENCY: Bureau of Land Management, Interior

ACTION: Notice of public meeting.

SUMMARY: The Bureau of Land Management (BLM) announces a public meeting of the Science Advisory Board to discuss DOI science goals, update recent BLM science initiatives, receive a briefing on the President's Energy Plan, and to discuss science and management of the National Landscape Conservation System units.

DATES: BLM will hold the public meeting on Tuesday, September 18, 2001, from 9 a.m. to 5 p.m. local time.

ADDRESSES: BLM will hold the public meeting at the Bureau of Land Management, Room 5622, 1849 C Street, NW., Washington, DC.

FOR FURTHER INFORMATION, CONTACT: Lee Barkow, Bureau of Land Management, Denver Federal Center, Building 50, P.O. Box 25047, Denver, CO 80225-0047, 303-236-6454.

SUPPLEMENTARY INFORMATION: This notice is published in accordance with Section 9(a)(2) of the Federal Advisory Committee Act of 1972 (Public Law 92-463).

I. The agenda for the Public Meeting is as Follows

9 a.m.—Introduction and Opening Remarks

9:30 a.m.—DOI Science Goals

10:30 a.m.—Update on Recent BLM Science Initiatives

1 p.m.—Briefing on the President's Energy Plan

2:45 p.m.—The National Landscape Conservation System—A Discussion on Science and Management of the Units

4 p.m.—Open Discussion by the Board and Drafting of Recommendations to the Director

II. Public Comment Procedures

Participation in the public meeting is not a prerequisite for submittal of written comments from all interested parties. Your written comments should be specific and explain the reason for any recommendation. The BLM appreciates any and all comments, but those most useful and likely to influence decisions on BLM's use of science are those that are either supported by quantitative information or studies or those that include citations to and analysis of applicable laws and regulations. Except for comments provided in electronic format, commenters should submit two copies of their written comments, where practicable. The BLM will not necessarily consider comments received after the time indicated under the DATES section or at locations other than that listed in the ADDRESSES section.

In the event there is a request under the Freedom on Information Act (FOIA) for a copy of your comments, we intend to make them available in their entirety, including your name and address (or your e-mail address if you file electronically). However, if you do not want us to release your name and address (or e-mail address) in response to a FOIA request, you must state this prominently at the beginning of your comment. We will honor your wish to the extent allowed by the law. All submissions from organizations or businesses and from individuals identifying themselves as representatives or officials of organizations or business will be in their entirety, including names and addresses (or e-mail addresses).

Electronic Access and Filing Address

Commenters may transmit comments electronically via the Internet to: lee_barkow@blm.gov. Please include the identifier “Science4” in the subject of your message and your name and address in the body of your message.

III. Accessibility

The meeting sites are accessible to individuals with disabilities. An individual with a disability who will need an auxiliary aid or service to participate in the hearing, such as interpreting service, assistive listening device, or materials in an alternate format, must notify the person listed under FOR FURTHER INFORMATION, CONTACT two weeks before the scheduled hearing date. Although BLM will attempt to meet a request received after that date, the requested auxiliary aid or service may not be available because of insufficient time to arrange it.

Lee Barkow,
Director National Science and Technology Center.

[FR Doc. 01-21059 Filed 8-20-01; 8:45 am]

BILLING CODE 4310-84-P